DEPARTMENT OF DEFENSE

Department of the Navy

Meeting of the Chief of Naval Operations (CNO) Executive Panel

AGENCY: Department of the Navy, DoD.

ACTION: Notice of closed meeting.

SUMMARY: The CNO Executive Panel will form consensus advice for the final report on the findings and recommendations of the Middle East Subcommittee to the CNO. The meeting will consist of discussions of potential future operating environments and force posture implications.

DATES: The meeting will be held on February 2, 2007, from 10 a.m. to 12 p.m.

ADDRESSES: The meeting will be held in the Center for Naval Analysis Corporation Boardroom at 4825 Mark Center Drive, Alexandria, VA 22311-1846.

FOR FURTHER INFORMATION CONTACT: CDR David Di Tallo, CNO Executive Panel, 4825 Mark Center Drive, Alexandria, VA 22311, 703-681-4908.

SUPPLEMENTARY INFORMATION: Pursuant to the provisions of the Federal Advisory Committee Act (5 U.S.C. App. 2), these matters constitute classified information that is specifically authorized by Executive Order to be kept secret in the interest of national defense and are, in fact, properly classified pursuant to such Executive Order. Accordingly, the Secretary of the Navy has determined in writing that the public interest requires that all sessions of this meeting be closed to the public because they will be concerned with matters listed in section 552b(c)(1) of title 5, United States Code.

Dated: January 9, 2007.
M.A. Harvison,
Lieutenant Commander, Judge Advocate General's Corps, U.S. Navy, Federal Register Liaison Office.

[FR Doc. E7-500 Filed 1-16-07; 8:45 am]

BILLING CODE 3810-FF-P